DEPARTMENT OF ENERGY ADMINISTRATION

Western Area Power Administration

Record of Decision for the San Luis Transmission Project (DOE/EIS-0496)

AGENCY: Western Area Power Administration, DOE.

ACTION: Record of decision and statement of floodplain findings.

SUMMARY: The Western Area Power Administration (Western), a power marketing administration within the U.S. Department of Energy (DOE), and the San Luis & Delta-Mendota Water Authority (Authority), a California joint powers agency, have prepared a joint Environmental Impact Statement (EIS)/Environmental Impact Report (EIR) for the San Luis Transmission Project (SLTP or Proposed Project). Western is the Federal lead agency under the National Environmental Policy Act (NEPA), and the Authority is the state lead agency under the California Environmental Quality Act (CEQA). The Bureau of Reclamation (Reclamation) is a NEPA Cooperating Agency. The California Department of Water Resources (DWR) is a CEQA Responsible Agency. Western proposes to construct, own, operate, and maintain approximately 95 miles of new transmission lines within easements ranging from 125 to 250 feet wide through Alameda, San Joaquin, Stanislaus, and Merced Counties along the foothills of the western San Joaquin Valley. Western also would upgrade or expand its existing substations, make the necessary arrangements to upgrade or expand existing Pacific Gas & Electric Company (PG&E) substations, or construct new substations to accommodate the interconnections of these new transmission lines. The Notice of Availability (NOA) of the Final EIS/EIR was published in the Federal Register on March 25, 2016 (81 FR 16175). After considering the environmental impacts, Western has decided to construct, operate, and maintain the transmission line and other project components within the corridors identified as the Agency Preferred Alternative in the Final EIS/EIR.

FOR FURTHER INFORMATION CONTACT: Mr. Donald Lash, NEPA Document Manager, Western Area Power Administration, Sierra Nevada Region, 114 Parkshore Drive, Folsom, CA 95630-4710; telephone (916) 353-4048. Hard copies of the EIS/EIR are available from Mr. Lash upon request. For general information on DOE's NEPA review process, please contact Ms. Carol M. Borgstrom, Director, Office of NEPA Policy and Compliance, GC-20, U.S. Department of Energy, Washington, DC 20585; telephone (202) 586-4600 or (800) 472-2756.

For information related to Reclamation's participation, contact Mr. Russell Grimes, Chief, Environmental Compliance and Conservation, Bureau of Reclamation, Mid-Pacific Region, 2800 Cottage Way, Sacramento, CA 95818, telephone (916) 978-5051, email at rwgrimes@usbr.gov. For information related to the Authority's participation and the CEQA process, contact Ms. Frances Mizuno, General Manager, San Luis & Delta-Mendota Water Authority, 15990 Kelso Road, Byron, CA 94514, telephone (209) 832-6200.

SUPPLEMENTARY INFORMATION: Western delivers Federal electric power (mostly hydroelectric power) to Federal preference customers defined to include municipalities, rural electric cooperatives, public utilities, irrigation districts, Federal and state agencies, and Native American tribes. Western also is responsible for making the necessary arrangements to deliver federal power to Federally authorized projects.

Reclamation is the largest wholesaler of water in the country, supplying more than 31 million people, and providing one out of five western farmers with irrigation water for 10 million acres of farmland. Reclamation is also the second largest producer of hydroelectric power in the western United States with 53 power plants that provide more than 40 billion kilowatt hours annually and generate nearly a billion dollars in power revenues. Reclamation's mission is to assist in meeting the increasing water demands of the West while protecting the environment and the public's investment in these structures. Reclamation emphasizes fulfilling its water delivery obligations, water conservation, water recycling, and reuse goals; developing partnerships with customers, states, and Native American tribes; and finding ways to address the competing needs for limited water resources.

The Authority is a California joint powers agency, comprised of water agencies representing approximately 28 Federal and exchange water service contractors within the western San Joaquin Valley, San Benito and Santa Clara counties. One of the primary purposes of establishing the Authority was to assume the operation and maintenance responsibilities of certain Reclamation facilities located in the Central Valley, and to do so at an optimum level and at a lower cost than Reclamation. The Authority also has the mission of pursuing additional reliable water supply for its member districts and delivering the water with a reliable system in a cost efficient manner.

Reclamation entered into a contract with PG&E in 1965 for power transmission and distribution service between Western's Tracy Substation and Reclamation's San Luis Unit (SLU) facilities. The existing transmission contract with PG&E expired in March 2016, and PG&E has stated it will not be renewed. Without the contract or a federal transmission line to serve the primary SLU facilities, the Federal Government will have to take transmission service under the California Independent System Operator Tariff. This would substantially increase Reclamation's transmission costs, which are paid by its water service contractors, including members of the Authority. Reclamation submitted a transmission service request to Western to consider various transmission service arrangements, including the construction of new Federal transmission lines for Reclamation's continued delivery of federal water after the PG&E contract expires. To meet its purpose and need Western must respond to Reclamation's request for transmission service consistent with Western's Open Access Transmission Tariff and existing laws. In October 2013, Duke American Transmission Company (DATC) submitted a transmission service request to Western for transmission service within the same corridor as requested by Reclamation. Western evaluated both requests jointly in order to determine if it can satisfy Reclamation's need and DATC's request with a single project.

The Notice of Intent (NOI) to prepare an EIS/EIR was published in the Federal Register on November 22, 2013 (78 FR 70035). Formal public scoping for the EIS/EIR began with the publication of the NOI and ended on January 21, 2014. Two public scoping meetings were held on January 8 and 9, 2014. Western distributed notices to 75 local agencies, 8 state agencies, 6 Federal agencies, 21 organizations, and 39 elected officials. Western also sent postcards announcing the public scoping meetings and comment period to all property owners within or adjacent to the Proposed Project or alternative routes, and published advertisements on the meetings and comment period in five local newspapers. The NOA for the Draft EIS/EIR was published in the Federal Register on July 17, 2015 (80 FR 42491). The NOA established a 45-day public comment period that ended August 31, 2015. Two public meetings on the Draft EIS/EIR were held in Tracy, California, on August 10, 2015 and Los Banos, California, on August 11, 2015. Notice of the meeting was provided through an advertisement in the local newspaper and direct mailing to approximately 475 addressees. Four individuals provided oral comments during the public meetings. Western received 26 comment letters and emails on the Draft EIS/EIR during the comment period, and Western considered all comments received in developing the Final EIS/EIR. The NOA for the Final EIS/EIR was published in the Federal Register on March 25, 2016 (81 FR 16175). Approximately 500 notifications were sent to landowners in the Project area and other agencies and stakeholders, and notices were published in online and printed versions of the local newspaper on March 25, 2016. Copies of the Final EIS/EIR were available for review at two local reading rooms and were available for download from Western SNR's Web site and the project Web site. A copy of the EIS/EIR was sent to those who requested one.

Proposed Action

The SLTP would consist of: (1) A new 500-kilovolt (kV) transmission line about 65 miles in length between the new Tracy East and Los Banos West Substations; (2) a new 230-kV transmission line about 3 miles in length between the new Los Banos West Substation and Western's existing San Luis Substation; (3) a new 230-kV transmission line about 20 miles in length between Western's existing San Luis Substation and Western's existing Dos Amigos Substation or a new 230-kV transmission line about 18 miles in length between the new Los Banos West Substation and Western's existing Dos Amigos Substation; (4) an interconnection with the existing Western 500-kV Los Banos-Gates No. 3 transmission line just south of PG&E's existing Los Banos Substation into the new Los Banos West Substation; and (5) a new 70-kV transmission line about 7 miles in length between the existing San Luis and O'Neill Substations.

Additional components of the SLTP would include new 230-kV line terminal bays at Western's San Luis and Dos Amigos Substations, as well as a new 230/70-kV transformer bank and interconnection facilities at the San Luis Substation. The SLTP also would include ancillary facilities, such as communication facilities, improvements to existing access roads, new permanent access roads, and temporary access roads to facilitate construction activities. Western would acquire the necessary easements and fee land for the Proposed Project.

Western implements Environmental Protection Measures (EPMs) and Construction Standards to reduce environmental consequences associated with its construction and maintenance activities. The Final EIS analysis of environmental consequences considered the EPMs listed in Table 2-5 and the Construction Standards presented in Appendix F to the Final EIS as integral components of the Proposed Action. These EPMs and Construction Standards would be implemented as part of the Proposed Project.

Description of Alternatives

Western analyzed six corridor alternatives and the No Action/No Project alternative in the EIS/EIR. An additional seven alternatives were considered in a screening process and eliminated from further review based on feasibility considerations. Western divided the Proposed Project, at common points of the corridors, into four segments (North, Central, San Luis, South) and examined available alternatives. Alternative corridors are presented by segment in Table 1, with the Agency Preferred Alternative shown in highlight:

The No Action/No Project Alternative is the Environmentally Preferred Alternative because it would avoid any adverse direct, indirect, or cumulative environmental impacts. However, the No Action/No Project Alternative would not achieve the purpose and need or basic project objectives. Therefore, an environmentally preferred action alternative was identified among the other (i.e., action) alternatives. The Environmentally Preferred Action Alternative is comprised of:

North Segment—Proposed Route;

Central Segment—Patterson Pass Road Alternative;

San Luis Segment (500-kV)—Proposed Route;

San Luis Segment (70-kV)—Proposed Route; and

South Segment—San Luis to Dos Amigos Alternative.

After analysis of public comments and further internal review of the EIS/EIR, Western has determined its Agency Preferred Alternative is the same as the Environmentally Preferred Action Alternative in the Northern and San Luis (500-kV and 70-kV) segments. In the Central Segment, the Proposed Route is the Agency Preferred Alternative. Although it would be closer to residences and have slight increases in the associated visual and temporary noise impacts, it would have less of an impact on biological resources. In particular, it would impact fewer special-status plant species. Additionally, it would require fewer crossings of the existing high voltage transmission lines, which would increase reliability by providing more space between circuits. In the South Segment, the Billy Wright Road Alternative is the Agency Preferred Alternative. Although it would have greater recreation impacts by crossing the Path of the Padres Trail and slightly greater soil disturbance due to its longer length, it would avoid conflicts with the Wright Solar Park, which is now fully permitted and expected to begin construction in 2016.

The Agency Preferred Alternative is comprised of:

North Segment—Proposed Route;

Central Segment—Proposed Route;

San Luis Segment (500-kV)—Proposed Route;

San Luis Segment (70-kV)—Proposed Route; and

South Segment—Billy Wright Road Alternative.

Mitigation Measures

All methods identified in Final EIS Table 6.1 to avoid, minimize, and mitigate environmental impacts from the selected alternative are adopted in this Record of Decision. Western's standard practices and project-specific protection measures, listed in the Final EIS/EIR, will be implemented as part of the Proposed Action, as will all terms and conditions of any required permits or consultation agreements.

Floodplain Statement of Findings

In accordance with 10 CFR part 1022, Western considered the potential impacts of the Project on floodplains and wetlands. The Project could affect floodplains through ground disturbance associated with construction and operations and maintenance activities, including operation of heavy equipment, grading, and vegetation clearing for access roads, site leveling, auguring of transmission tower foundations, and other infrastructure excavations. The Project will place new structures outside of floodplains where possible. In areas where floodplains cannot be avoided, Western will engineer transmission towers to withstand a 100-year flood. Additionally, new structures will be located and designed so as not to impede flood flows. All construction within a designated 100-year floodplain will be undertaken in consultation with the U.S. Army Corps of Engineers. No floodwater will be blocked, nor will floodwater be diverted outside of an existing floodplain. If avoidance is infeasible, transmission towers will be located and engineered so as not to block or substantially alter the natural drainage pattern. In accordance with Western's Environmental Protection Measures and Construction Standard 13, culverts or bridges will be installed where needed to avoid surface water impacts during construction of transmission line structures.

Decision

Western's decision is to construct the project along the Agency Preferred Alternative described in the Final EIS/EIR. The measures identified in Final EIS Table 6.1 are adopted as part of this decision. The selection of the Agency Preferred Alternative, the adopted measures from Final EIS Table 6.1, and all terms and conditions of required permits and consultation agreements satisfies Western's statutory mission while minimizing harm to the environment. This decision is based on the information in the Final EIS/EIR. The EIS including this Record of Decision was prepared according to the requirements of NEPA (42 U.S.C. 4321, et seq.), the Council on Environmental Quality's regulations for implementing NEPA (40 CFR parts 1500-1508) and DOE's procedures for implementing NEPA (10 CFR part 1021).

Dated: April 29, 2016.
Mark A. Gabriel,
Administrator.

[FR Doc. 2016-10802 Filed 5-6-16; 8:45 am]

BILLING CODE 6450-01-P